DEPARTMENT OF HEALTH AND HUMAN SERVICES

Indian Health Service

Division of Behavioral Health; Youth Regional Treatment Center Aftercare Pilot Project; Correction of Due Dates

AGENCY: Indian Health Service, HHS.

ACTION: Notice; correction of due dates.

SUMMARY: The Indian Health Service published a notice in the Federal Register (FR) on October 11, 2017, for the Fiscal Year 2018 Youth Regional Treatment Center Aftercare Pilot Project, Funding Announcement Number: HHS-2018-IHS-YRTC-0001. Several Key Dates have been modified. The Application Due Date is November 12, 2017 and the Earliest Anticipated Start Date is December 1, 2017.

FOR FURTHER INFORMATION CONTACT: Paul Gettys, Grant Systems Coordinator, 5600 Fishers Lane, Mail Stop: 09E70, Rockville, MD 20857, Phone: (301) 443-2114; or the Division of Grants Management main line (301) 443-5204, or Fax: (301) 594-0899.

Correction

In the FR notice of October 11, 2017 (FR 2017-21786), the corrections are:

Key Dates

Under the heading Key Dates, the notice should include the dates for Review Date, Signed Tribal Resolutions Due Date, and Proof of Non-Profit Status Due Date should read as:

• Review Date: November 20-24, 2017.

• Signed Tribal Resolutions Due Date: November 12, 2017.

• Proof of Non-Profit Status Due Date: November 12, 2017.

The Application Due Date remains as November 12, 2017.

Project Period

Under Project Period, the sentence corrections reflects a start date of December 1, 2017:

• “The project period is for three years and will run consecutively from December 1, 2017 to October 31, 2020.”

Submission Dates

Under Submission Dates and time: “Eastern Daylight Time (EDT)” should be used instead of “Eastern Savings Time (EST).”

Dated: October 13, 2017.
Michael D. Weahkee,
Assistant Surgeon General, U.S. Public Health Service, Acting Director, Indian Health Service.

[FR Doc. 2017-22864 Filed 10-20-17; 8:45 am]

BILLING CODE 4165-16-P